DEPARTMENT OF AGRICULTURE

Public Meetings of the Black Hills National Forest Advisory Board

AGENCY: Forest Service, USDA.

ACTION: Notice of meetings.

SUMMARY: The Black Hills National Forest Advisory Board (NFAB) will hold meetings to become informed about Black Hills National Forest issues and to reach consensus on those issues so as to make management recommendations to the forest supervisor. The meetings are open, and the public may attend any part of the meetings.

Dates and Agenda Issues:

Wednesday, March 17, 2004 from 1 to 5 p.m.—Fragmentation

Wednesday, April 14, 2004 from 1 to 5 p.m.—Forest Health/Wildlife Management

Wednesday, May 19, 2004 from 1 to 5 p.m.—Invasive Species

Wednesday, June 9, 2004 from 1 to 5 p.m.—Travel Management

ADDRESSES: SDSU West River Ag Center, 1905 Plaza Boulevard, Rapid City, SD

FOR FURTHER INFORMATION CONTACT: Frank Carroll, Black Hills National Forest, 25041 North Highway 16, Custer, SD, 57730, (605) 673-9200.

Dated: January 5, 2004.
Brad Exton,
Black Hills National Forest Deputy Supervisor.

[FR Doc. 04-422 Filed 1-8-04; 8:45 am]

BILLING CODE 3410-11-M